DEPARTMENT OF TRANSPORTATION

Federal Aviation Administration

14 CFR Part 39

[Docket No. 99-NE-35-AD; Amendment 39-12953; AD 2002-23-09]

RIN 2120-AA64

Airworthiness Directives; MT-Propeller Entwicklung GMBH Models MTV-9-B-C and MTV-3-B-C Propellers

AGENCY: Federal Aviation Administration, DOT.

ACTION: Final rule.

SUMMARY: This amendment supersedes an existing airworthiness directive (AD), that is applicable to MT-Propeller Entwicklung GMBH Models MTV-9-B-C and MTV-3-B-C propellers. That AD currently requires initial and repetitive inspections of Torx head blade root lag screws that are used on certain serial number (SN) propellers and replacement of all lag screws on the propeller if any screws are found broken or with insufficient torque. In addition, that AD currently requires the replacement of certain part number (P/N) Torx head blade root lag screws with improved, hexagonal head blade root lag screws. This amendment requires the expansion of the applicability from certain SN propellers to all propellers with certain SN blades that may contain the suspect Torx head blade root lag screws. This amendment is prompted by FAA awareness that a propeller hub of an affected propeller could be changed, thereby changing the propeller serial number, creating a propeller that is not listed in the AD and that has affected blades and lag screws. The actions specified by this AD are intended to prevent failure of the blade root lag screw, which could result in propeller blade separation and loss of control of the airplane.

DATES: Effective December 30, 2002.

The incorporation by reference of certain publications, as listed in the regulations, was approved previously by the Director of the Federal Register as of July 23, 1999 (64 FR 36777, July 8, 1999).

ADDRESSES: The service information referenced in this AD may be obtained from MT-Propeller Entwicklung GMBH, Airport Straubing-Wallmuhle, D-94348 Atting, Germany; telephone (0 94 29) 84 33; fax (0 94 29) 84 32; Internet address: “propeller@aol.com”. This information may be examined, by appointment, at the Federal Aviation Administration (FAA), New England Region, Office of the Regional Counsel, 12 New England Executive Park, Burlington, MA; or at the Office of the Federal Register, 800 North Capitol Street, NW., Suite 700, Washington, DC.

FOR FURTHER INFORMATION CONTACT: Wayne E. Gaulzetti, Aerospace Engineer, Boston Aircraft Certification Office, FAA, Engine and Propeller Directorate, 12 New England Executive Park, Burlington, MA 01803-5299; telephone (781) 238-7156, fax (781) 238-7199.

SUPPLEMENTARY INFORMATION: A proposal to amend part 39 of the Federal Aviation Regulations (14 CFR part 39) by superseding AD 99-14-06, Amendment 39-11216 (64 FR 36777, July 8, 1999), which is applicable to MT-Propeller Entwicklung GMBH models MTV-9-B-C and MTV-3-B-C propellers was published in the Federal Register on February 27, 2002 (67 FR 8910). That action proposed to require the expansion of the applicability from certain serial number (SN) propellers to all propellers with certain SN blades that may contain the suspect Torx head blade root lag screws in accordance with MT-Propeller Entwicklung GMBH SB No. 17-A, dated March 5, 1999.

Comments

Interested persons have been afforded an opportunity to participate in the making of this amendment. No comments were received on the proposal or the FAA's determination of the cost to the public. The FAA has determined that air safety and the public interest require the adoption of the rule as proposed.

Economic Analysis

There are approximately 250 propellers of the affected design in the worldwide fleet. The FAA estimates that 125 propellers installed on airplanes of U.S. registry would be affected by this AD. The FAA also estimates that it would take approximately 13 work hours per propeller to do the actions, and that the average labor rate is $60 per work hour. Based on these figures, the total cost of the AD on U.S. operators is estimated to be $97,500.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11216, (64 FR 36777 July 8, 1999) and by adding a new airworthiness directive, Amendment 39-12953, to read as follows:

2002-2-23-09 MT-Propeller Entwicklung GMBH: Amendment 39-12953. Docket No. 99-NE-35-AD. Supersedes AD 99-14-06, Amendment 39-11216.

Applicability: This airworthiness directive (AD) is applicable to MT-Propeller Entwicklung GMBH models MTV-9-B-C and MTV-3-B-C propellers equipped with CL250-27 or CL260-27 blades with serial numbers (SN's) starting with letter “A” through “P”, equipped with Torx head blade root lag screws, part number (P/N) A-549-85 (3mm thread pitch), or P/N A-550-85 (4mm thread pitch); and Model MTV-3-B-C propellers, equipped with L250-21 blades with SN's starting with letter “A” through “P”, equipped with Torx head blade root lag screws, P/N A-549-85 (3mm thread pitch), or P/N A-550-85 (4mm thread pitch). These propellers are installed on, but not limited to, Sukhoi SU-26, SU-29, SU-31; Yakovlev YAK-52, YAK-54, YAK-55, and Technoavia SM-92 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Required as indicated, unless already done.

To prevent blade root lag screw failure, which could result in propeller blade separation and loss of control of the airplane, do the following:

(a) For propellers with Torx head blade root lag screws, P/N A-549-85 (3mm thread pitch), inspect Torx head blade root lag screws for torque values and breakage in accordance with MT-Propeller Entwicklung GMBH Service Bulletin (SB) No. 17-A, dated March 5, 1999, as follows:

(1) Initially inspect within 50 hours time-in-service (TIS), or within two months after the effective date of this AD, whichever occurs first.

(2) Thereafter, inspect at intervals not to exceed 100 hours TIS, or within 12 months, whichever occurs first.

(3) Before further flight, if any lag screws are found broken or with torque less than 64 foot-pounds, replace all lag screws with new lag screws.

(b) For propellers with lag screws, P/N A-550-85 (4mm thread pitch), inspect lag screws for torque values and breakage in accordance with MT-Propeller Entwicklung GMBH SB No. 17-A, dated March 5, 1999, as follows:

(1) Inspect within 50 hours TIS, or within two months after the effective date of this AD, whichever occurs first.

(2) Before further flight, if any lag screws are found broken or with torque less than 64 foot-pounds, replace all lag screws with improved, hexagonal head blade root lag screws, P/N A-983-85. Torque screws to 58-60 foot-pounds.

(c) Replace lag screws, P/N A-550-85, within 100 hours TIS, or within 12 months after the effective date of this AD, with lag screws, P/N A-983-85, in accordance with MT-Propeller Entwicklung GMBH SB No. 17-A, dated March 5, 1999. Torque screws to 58-60 foot-pounds.

Alternative Methods of Compliance

(d) An alternative method of compliance or adjustment of the compliance time that provides an acceptable level of safety may be used if approved by the Manager, Boston Aircraft Certification Office. Operators must submit their requests through an appropriate FAA Maintenance Inspector, who may add comments and then send it to the Manager, Boston Aircraft Certification Office.

Note 2: Information concerning the existence of approved alternative methods of compliance with this airworthiness directive, if any, may be obtained from the Boston Aircraft Certification Office.

Special Flight Permits

(e) Special flight permits may be issued in accordance with §§ 21.197 and 21.199 of the Federal Aviation Regulations (14 CFR 21.197 and 21.199) to operate the airplane to a location where the requirements of this AD can be done.

Documents That Have Been Incorporated by Reference

(f) The actions must be done in accordance with MT-Propeller Entwicklung GMBH service bulletin: 17A, dated March 5, 1999.

The incorporation by reference of MT-Propeller Entwicklung GMBH service bulletin: 17A, dated March 5, 1999, was approved by the Director of the Federal Register as of July 23, 1999 (64 FR 36777, July 8, 1999). Copies may be obtained from MT-Propeller Entwicklung GMBH, Airport Straubing-Wallmuhle, D-94348 Atting, Germany; telephone (0 94 29) 84 33, fax (0 94 29) 84 32, Internet address: propeller@aol.com. Copies may be inspected at the FAA, New England Region, Office of the Regional Counsel, 12 New England Executive Park, Burlington, MA; or at the Office of the Federal Register, 800 North Capitol Street, NW., Suite 700, Washington, DC.

Effective Date

(g) This amendment becomes effective on December 30, 2002.

Issued in Burlington, Massachusetts, on November 8, 2002.
Francis A. Favara,
Acting Manager, Engine and Propeller Directorate, Aircraft Certification Service.

[FR Doc. 02-29354 Filed 11-22-02; 8:45 am]

BILLING CODE 4910-13-P